DEPARTMENT OF LABOR

Employment and Training Administration

[TA-W-58,053]

La-Z-Boy Greensboro, Inc., Formerly Known as LADD Furniture, Inc., Lea Industries and American Drew Including On-Site Leased Workers of Kelly Temporary Services, North Wilkesboro, NC; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on October 28, 2005, applicable to workers of La-Z-Boy Greensboro, Inc., Lea Industries and American Drew, including on-site leased workers of Kelly Temporary Services, North Wilkesboro, North Carolina. The notice was published in the Federal Register on November 16, 2005 (70 FR 69599).

At the request of the company, the Department reviewed the certification for workers of the subject firm. The workers are engaged in the production of bedroom and diningroom furniture.

The company reports that some workers wages at the subject firm are being reported under the Unemployment Insurance (UI) tax account for LADD Furniture, Inc., the previous name of the firm. Accordingly, the Department is amending the certification to include the former employer name.

The intent of the Department's certification is to include all workers of La-Z-Boy Greensboro, Inc., Lea Industries and American Drew who were adversely affected by increased imports.

The amended notice applicable to TA-W-58,053 is hereby issued as follows:

“All workers of La-Z-Boy Greensboro, Inc., formerly known as LADD Furniture, Inc., Lea Industries and American Drew, North Wilkesboro, North Carolina, including on-site leased workers of Kelly Temporary Services, who became totally or partially separated from employment on or after September 22, 2004, through October 28, 2007, are eligible to apply for adjustment assistance under section 223 of the Trade Act of 1974, and are also eligible to apply for alternative trade adjustment assistance under section 246 of the Trade Act of 1974.”

Signed at Washington, DC, this 23rd day of November 2005.
Linda G. Poole,
Certifying Officer, Division of Trade Adjustment Assistance.

[FR Doc. E5-6999 Filed 12-6-05; 8:45 am]

BILLING CODE 4510-30-P